DEPARTMENT OF TRANSPORTATION

Maritime Administration

Renewal of the U.S. Maritime Transportation System National Advisory Committee and Solicitation of Nominations for Membership

AGENCY: Maritime Administration, Department of Transportation.

ACTION: Notice of charter renewal and nomination solicitation.

SUMMARY: Pursuant to authority delegated by the Secretary of Transportation (Secretary) to the Maritime Administrator (Administrator) and the Federal Advisory Committee Act implementing regulations, the Maritime Administration (MARAD) announces the renewal of the U.S. Maritime Transportation System National Advisory Committee (Committee or MTSNAC), by the Secretary of Transportation. The Committee will advise the Secretary on solutions to impediments hindering effective use of short sea transportation and other matters as the Secretary determines. Duration of the MTSNAC is for two years unless renewed by the Secretary. This notice also requests nominations for membership on the Committee.

DATES: Nominations for immediate consideration for appointment must be received on or before 5:00 p.m. ET on May 2, 2016. After that date, MARAD will continue to accept applications under this notice for a period of up to two years from the deadline to fill any vacancies that may arise. The Agency encourages nominations submitted any time before the deadline.

ADDRESSES: Interested candidates may submit a completed application by one of the following methods:

• Email: MTSNAC@dot.gov, subject line: MTSNAC Application.

• Fax: 202-308-8968, ATTN: MTSNAC DFO, please provide name, mailing address and telephone and fax numbers to send application forms to.

• Mail: MARAD-MTSNAC Designated Federal Officer, Room W21-310, U.S. Department of Transportation, 1200 New Jersey Ave. SE., Washington, DC 20590, please provide name, mailing address and telephone and fax numbers to send application forms to.

FOR FURTHER INFORMATION CONTACT: Eric Shen, Designated Federal Officer, at MTSNAC@dot.gov or at (202) 308-8968. Please visit the MTSNAC Web site at http://www.marad.dot.gov/ports/marine-transportation-system-mts/marine-transportation-system-national-advisory-committee-mtsnac/.

SUPPLEMENTARY INFORMATION:

I. Under what authority is MARAD renewing the MTSNAC?

The MTSNAC is a Federal advisory committee MARAD sponsors that advises the Department of Transportation on issues related to the marine transportation system. The MTSNAC was originally established in 1999 in accordance with the recommendations made in a Report to Congress titled “An Assessment of the U.S. Marine Transportation System,” and mandated in 2007 by section 1121 of the Energy Independence and Security Act of 2007, Public Law 110-140 (46 U.S.C. 55603). The MTSNAC operates in accordance with the provisions of the Federal Advisory Committee Act (FACA), and shall undertake information-gathering activities, develop technical advice, and present recommendations to the Administrator on matters including but not limited to the following:

a. Impediments hindering effective use of short sea transportation, including the expansion of America's Marine Highways, as directed in Section 1121 of the Energy Independence and Security Act of 2007 (Pub. L. 110-140), and methods to expand the use of the Marine Transportation System for freight and passengers;

b. Expand capacity of U.S. international gateway ports to accommodate larger vessels;

c. Improve waterborne transport to reduce congestion and increase mobility throughout the domestic transportation system;

d. Strengthen maritime capabilities essential to economic and national security;

e. Modernize the maritime workforce and inspire and educate the next generation of mariners;

f. Foster maritime innovation; and,

g. Topics related to the Agency's mission that the Maritime Administrator may charge the Committee with addressing.

II. Who should be considered for nomination as MTSNAC members?

The Maritime Administration seeks nominations for immediate consideration to fill approximately 10 positions on the Committee for the upcoming 2016-2018 charter term, and will continue to accept nominations under this notice on an on-going basis for two years for consideration to fill vacancies that may arise during the charter term. Member appointment terms run for two years concurrently with the Committee charter. Members will be selected in accordance with applicable Agency guidelines based upon their ability to advise the Administrator on marine transportation issues. Members will be selected with a view toward a varied perspective of the marine transportation industry, including (1) ports and terminal operators; (2) vessel operators; (3) shippers or beneficiary cargo owners; (4) shipbuilders; (5) other modes of transportation; (6) relevant policy areas such as innovative financing, economic competitiveness, performance monitoring, safety, labor, and environment; (7) freight customers and providers; and (8) government bodies. Specifically, the Agency seeks to balance the following interests to the extent practicable: State departments of transportation; State, local, and tribal officials; local planning offices; shippers, businesses, and economic development; freight forwarders; rail, ports, trucking, and pipelines operations; workforce including both shipboard and waterfront workers, safety, and environmental interest. Registered lobbyists are not eligible to serve on Federal Advisory Committees. Registered lobbyists are lobbyists required to comply with provisions contained in the Lobbying Disclosure Act of 1995 (Pub. L. 110-81).

III. Do MTSNAC members receive compensation and/or per diem?

Committee members will receive no salary for the participation in MTSNAC activities. While attending meetings or when otherwise engaged in Committee business, members may be reimbursed for travel and per diem expenses as permitted under applicable Federal travel regulations. Reimbursement is subject to funding availability.

IV. What is the process for submitting nominations?

Individuals can self-apply or be nominated by any individual or organization. To be considered for the MTSNAC, nominators should submit the following information:

(1) Contact Information for the nominee, consisting of:

a. Name

b. Title

c. Organization or Affiliation

d. Address

e. City, State, Zip

f. Telephone number

g. Email address

(2) Statement of interest limited to 250 words on why the nominee wants to serve on the MTSNAC and the unique perspectives and experiences the nominee brings to the Committee;

(3) Resume limited to 3 pages describing professional and academic expertise, experience, and knowledge, including any relevant experience serving on advisory committees, past and present;

(4) An affirmative statement that the nominee is not a Federally registered lobbyist and that the nominee understands that, if appointed, the nominee will not be allowed to continue to serve as a Committee member, if the nominee becomes a Federally registered lobbyist; and

(5) Optional letters of support.

Please do not send company, trade association, organization brochures, or any other promotional information. Materials submitted should total five pages or less and must be in a 12 font, formatted in Microsoft Word or PDF. Should more information be needed, MARAD staff will contact the nominee, obtain information from the nominee's past affiliations, or obtain information from publicly available sources. If you are interested in applying to become a member of the Committee, send a completed application package by email to MTSNAC@dot.gov or by mail to Eric Shen, MTSNAC- DFO, Room W21-310, U.S. Department of Transportation, 1200 New Jersey Ave. SE., Washington, DC 20590. Applications must be received on or before 5:00 p.m. ET on March 24, 2016; however, candidates are encouraged to send application any time before the deadline.

V. How will MARAD select MTSNAC members?

A selection team comprised of representatives from the Maritime Administration will review the application packages. The selection team will make recommendations regarding membership to the Administrator based on the following criteria: (1) Professional or academic expertise, experience, and knowledge; (2) stakeholder representation; (3) availability and willingness to serve; and (4) relevant experience in working in committees and advisory panels. Nominations are open to all individuals without regard to race, color, religion, sex, national origin, age, mental or physical disability, marital status, or sexual orientation.

Authority: 49 CFR part 1.93(a); 5 U.S.C. 552b; 41 CFR parts 102-3; 5 U.S.C. app. Sections 1-16.

By Order of the Maritime Administrator.
Dated: March 24, 2016.
T. Mitchell Hudson, Jr.,
Secretary, Maritime Administration.

[FR Doc. 2016-07053 Filed 3-28-16; 8:45 am]

BILLING CODE 4910-81-P